DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to the Office of Management and Budget (OMB) for review, call the HRSA Reports Clearance Office on (301) 443-1129.

The following request has been submitted to the Office of Management and Budget for review under the Paperwork Reduction Act of 1995:

Proposed Project: The Nursing Education Loan Repayment Program Application (OMB No. 0915-0140)—Revision

This is a request for revision of the Nursing Education Loan Repayment Program (NELRP) application. The NELRP was originally authorized by 42 U.S.C. 297b(h) (section 836 (h) of the Public Health Service Act) as amended by Public Law 100-607, November 4, 1988. The NELRP is currently authorized by 42 U.S.C. 297(n) (section 846 of the Public Health Service Act) as amended by Public Law 104-205, August 1, 2002.

Under the NELRP, registered nurses are offered the opportunity to enter into a contractual agreement with the Secretary to receive loan repayment for up to 85 percent of their qualifying educational loan balance as follows: 30 percent each year for the first 2 years and 25 percent for the third year. In exchange, the nurses agree to serve full-time as a registered nurse for 2 or 3 years at a health care facility with a critical shortage of nurses.

NELRP requires the following information:

1. Applicants must provide information on their nursing education, employment, and proposed service site;

2. Applicants must provide information on their outstanding nursing educational loans; and

3. Applicants must provide banking information from their financial institution.

Estimates of Annualized Hour Burden: The application has been changed due to legislative and program changes and an increased budget. Burden estimates are as follows:

Form/regulatory requirement | Number of respondents | Responses per respondents | Hours per response | Total burden hours
NELRP Application | 8,000 | 1 | 1 | 8,000
Loan Verification Form | 8,000 | 3 | 1 | 24,000
Employ. Verification Form | 8,000 | 1 | .5 | 4,000
Payment Info. Form | 8,000 | 1 | 1 | 8,000
Checklist | 8,000 | 1 | .5 | 4,000
Total | 8,000 |  |  | 48,000

Written comments and recommendations concerning the proposed information collection should be sent within 30 days of this notice to: Desk Officer, Health Resources and Services Administration, Human Resources and Housing Branch, Office of Management and Budget, New Executive Office Building, Room 10235, Washington, DC 20503.

Dated: June 17, 2004.
Tina M. Cheatham,
Director, Division of Policy Review and Coordination.

[FR Doc. 04-14270 Filed 6-23-04; 8:45 am]

BILLING CODE 4165-15-P